DEPARTMENT OF HOUSING AND URBAN DEVELOPMENT

[Docket No. FR-4601-N-01]

Notice of Opportunity To Apply To Serve on the U.S.-Israel Bi-National Commission on Housing and Community Development

AGENCY: Office of International Affairs under the Office of the Assistant Secretary for Policy Development and Research, HUD.

ACTION: Notice.

SUMMARY: This notice announces the opportunity for individuals to apply to serve on a U.S.-Israel Bi-National Commission on Housing and Community Development and announces the selection and eligibility requirements.

DATES: In order to receive full consideration, requests must be received by HUD no later than July 26, 2000.

ADDRESSES: Please send your requests for consideration to U.S.-Israel Bi-National Commission, U.S. Department of Housing and Urban Development, Office of International Affairs, Room 8118, 451 Seventh Street, SW, Washington, DC 20410. You may fax your request to (202) 708-5536 (this is not a toll-free number).

FOR FURTHER INFORMATION CONTACT: John Geraghty, U.S. Department of Housing and Urban Development, Office of International Affairs, Room 8118, 451 Seventh Street, SW, Washington, DC 20410, (202) 708-0770 (telephone), (202) 708-5536 (fax) (these are not toll-free numbers). Hearing or speech-impaired persons may access the above telephone number via TTY by calling the toll-free Federal Information Relay Service at (800) 877-8339.

SUPPLEMENTARY INFORMATION:

Background

On June 19, 2000, President Clinton signed a Memorandum recognizing affordable housing and related community development as one of our most pressing domestic problems and seeking to enlarge the framework for policy research studies in this area and to strengthen relations with the State of Israel for the mutual benefit of the citizens of the United States and Israel. To that end, the President directed the Secretary of Housing and Urban Development to initiate discussions with the Government of Israel on issues of affordable housing and community development, with the aim of establishing a binational commission to structure a cooperative exchange program in this field.

Accordingly, the Department of Housing and Urban Development (HUD) is seeking individuals who would like to serve on the U.S.-Israel Bi-National Commission. Applicants may represent U.S. companies, associations or non-governmental organizations actively engaged in housing and community development. The Commission will be made up of U.S. and Israeli representatives from the housing, real estate, community development, finance, and construction sectors.

Members will serve on the Commission for a two-year term at the discretion of the appointing officials. Members are expected to participate fully in defining the agenda for the Commission and in implementing its work programs. It is expected that individuals chosen for the Commission will attend at least 75 percent of Commission meetings, which will be held in the United States and Israel. Members are fully responsible for travel, accommodation, and personal expenses associated with their participation in the Bi-National Commission. The members will serve in a representative capacity presenting the views and interests of the particular housing sector in which they operate.

Selection and Eligibility Requirements

There are up to ten (10) available positions on the U.S. side of the Bi-National Commission. This notice is seeking individuals to fill these positions.

1. Applicants must:

—Be a U.S. citizen residing in the United States or a permanent United States resident;

—Be a Chief Executive Officer (CEO) or other senior management employee or representative of a U.S. company, association, or nonprofit organization involved in residential housing construction, housing finance, real estate, community/economic development, or urban planning sectors; and

—Not be a registered foreign agent under the Foreign Agents Registration Act of 1938.

2. In reviewing eligible applicants, HUD will consider:

—The applicant's expertise in construction building materials (especially concrete applications), innovative residential housing programs (including voucher programs), housing finance (including primary and secondary mortgage market programs and Real Estate Investment Trusts (REITs)), urban planning, community development, and urban revitalization strategies (such as HUD's Empowerment Zone/Enterprise Communities (EZ/EC) and HOPE VI programs);

—Particular experience or interest in Israel;

—Readiness to initiate and be responsible for the activities the Commission proposes to take on;

—An ability to contribute in light of overall Commission composition; and

—Diversity of company or organization size, type, location, and demographics.

3. To be considered for membership, please provide the following:

—Name and title of the individual requesting consideration;

—Name and address of the company or association that the individual will represent;

—The company or organization's specific expertise or service area;

—Size of the company or organization; and

—The company or organization's international expertise and major countries of operation.

4. Please also provide:

—A brief statement on why the individual should be considered for membership on the Commission;

—The individual's international expertise and major countries of operation;

—The particular segment of the housing industry the individual would represent;

—A personal resume;

—A statement that the applicant is not a registered foreign agent under the Foreign Agents Registration Act; and

—A brief statement of experience or interest in Israel.

5. Additional members and replacements:

—The number of Commission positions may be expanded, should the need arise. Additional members or replacements for any individual selected to serve on the Commission, may only be made by HUD after a review by HUD of the qualifications of the individuals.

Dated: June 21, 2000.
Susan Wachter,
Assistant Secretary for Policy Development and Research.

[FR Doc. 00-16164 Filed 6-22-00; 12:57 pm]

BILLING CODE 4210-62-P